DEPARTMENT OF TRANSPORTATION

Coast Guard

33 CFR Part 165

[COTP Tampa 00-061]

RIN 2115-AA97

Safety Zone Regulations: Tampa Bay, Florida

AGENCY: Coast Guard, DOT.

ACTION: Temporary final rule.

SUMMARY: The Coast Guard is establishing a temporary safety zone on the waters within Tampa Bay, Florida. The safety zone is needed to ensure the safe transit of the Liquefied Petroleum Gas (LPG) tank ships through Tampa Bay and into the SEA-3 facility located at berth 30. Any vessel desiring to enter the safety zone must obtain permission from the Captain of the Port, Tampa, Florida. All vessels over 5000 gross tons intending to pass the LPG vessel moored in Port Sutton must give 30 minutes notice to the LPG vessel so it may take appropriate safety precautions.

DATES: This rule is effective from June 26, 2000 until November 30, 2000.

FOR FURTHER INFORMATION CONTACT: Commanding Officer, Marine Safety Office Tampa, 155 Columbia Drive, Tampa, Florida 33606, Attention: Lieutenant Warren Weedon, or phone (813) 228-2189 ext 101.

SUPPLEMENTARY INFORMATION:

Background and Purpose

LPG carriers are scheduled to transit through Tampa Bay and into a new LPG facility located on Port Sutton Channel. Due to the hazards to other vessels and to the public associated with carrying LPG product, the Coast Guard is establishing a moving safety zone. The safety zone will mirror the current guidelines for vessels carrying anhydrous ammonia that are currently calling on the Port of Tampa. The Safety Zone will also prohibit vessels from entering within 1000 yards fore or aft of the vessel during its transit.

In accordance with 5 U.S.C. 553, a notice of proposed rulemaking has not been published for these regulations and good cause exists for making them effective in less than 30 days after Federal Register publication. Publishing a NPRM and delaying its effective date would be contrary to national safety interests since immediate action is needed to minimize potential danger to the public, as the updated information concerning the time and location of the transit was received 10 days before the transit.

Regulatory Evaluation

This rule is not a significant regulatory action under section 3(f) of Executive Order 12866 and does not require an assessment of potential costs and benefits under section 6(a)(3) of the order. It has been exempted from review by the Office of Management and Budget under that order. It is not significant under the regulatory policies and procedures of the Department of Transportation (DOT) (44 FR 11040, February 26, 1979). The Coast Guard expects the economic impact of this proposal to be so minimal that a full regulatory evaluation under paragraph 10e of the regulatory policies and procedures of DOT is unnecessary. This regulation is needed to ensure public safety in a limited area of Tampa Bay.

Small Entities

Under the Regulatory Flexibility Act (5 U.S.C. 601-612 et seq.), we considered whether this proposed rule would have a significant economic impact on a substantial number of small entities. The term “Small entities” comprises small businesses and not for profit organizations that are independently owned and operated and are not dominant in their field and governmental jurisdictions with populations of less than 50,000.

The Coast Guard certifies under 5 U.S.C. 605(b) that this rule will not have a significant economic impact on a substantial number of small entities as the regulations will only be in effect for two (2) hours on a limited area of Tampa Bay and meeting or overtaking of the vessel is permitted between Gadsden Cut buoys #3 and #7.

Assistance for Small Entities

Under section 213(a) of the Small Business Regulatory Enforcement Fairness Act of 1996 (Pub. L. 104-221), we offer to assist small entities in understanding the rule so that they could better evaluate its effects on them and participate in the rulemaking process. Small entities may contact the person listed under FOR FURTHER INFORMATION CONTACT for assistance in understanding and participating in this rulemaking. We also have a point of contact for commenting on actions by employees of the Coast Guard. Small businesses may send comments on the actions of Federal employees who enforce, or otherwise determine compliance with Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule contains no collection of information requirements under the Paperwork Reduction Act (44 U.S.C. 3501 et seq.)

Federalism

We have analyzed this rule under Executive Order 13132 and have determined that this rule does not have implications for federalism under that order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those unfunded mandate costs. This rule will not impose an unfunded mandate.

Taking of Private Property

This rule will not effect a taking of private property or otherwise have taking disproportionately affect children.

Civil Justice Reform

This rule meets applicable standards in sections 3(a) and 3(b)(2) of E.O. 12988, Civil Justice Reform, to minimize litigation, eliminate ambiguity, and reduce burden.

Protection of Children

We have analyzed this rule under E.O. 13045, Protection of Children from Environmental Health Risks and Safety Risks. This rule is not an economically significant rule and does not concern an environmental risk to health or safety that may disproportionately affect children.

Environment

The Coast Guard has considered the environmental impact of this action and has determined under figure 2-1, paragraph 34(g) of Commandant Instruction M16475.1C, that this rule is categorically excluded from further environmental documentation.

List of Subjects in 33 CFR Part 165

Harbors, Marine Safety, Navigation (water), Reporting and recordkeeping requirements, Safety measures, Waterways.

In consideration of the foregoing, the Coast Guard amends Subpart C of Part 165 of title 33, Code of Federal Regulations, as follows:

PART 165—[AMENDED]

1. The authority citation for Part 165 continues to read as follows:

Authority: 33 U.S.C. 1271; 50 U.S.C. 191; 49 CFR 1.46 and 33 CFR 1.05-1(g), 6.04-1, 6.04-6, and 160.5.

2. Temporary § 165.T07-061 is added to read as follows:

§ 165.T07-061 Safety Zone; Tampa Bay, Florida.

(a) Regulated area. A safety zone is established 1000 yards forward and aft of the LPG vessel and the entire width of the channel, prohibiting meeting or overtaking the LPG vessel starting at Tampa Bay Channel Cut “F” buoys “3 & 4” through Gadsden Point Cut, Hillsborough Bay Cut “A & C”, Port Sutton Entrance Channel and into the SEA-3 facility located at berth 30, Port Sutton Channel. The vessel will broadcast the exact time of the transit and the safety zone upon arrival. Any vessel desiring to enter the safety zone must obtain permission from the Captain of the Port, Tampa, Florida. All vessels over 5000 gross tons intending to pass the LPG vessel while moored in Port Sutton must give 30 minutes notice to the LPG vessel so it may take appropriate safety precautions.

(b) Regulations. In accordance with the general regulations in § 165.27 of this part, entry into this zone is prohibited to all vessels without the prior permission of the Coast Guard Captain of the Port.

(c) Enforcement period. This rule activates when the LPG vessel enters the safety zone starting at Tampa Bay Channel Cut “F” buoys “3 & 4” and terminates when the vessel moors at the SEA-3 facility, berth 30, Port Sutton Channel.

(d) Effective date. This section is effective from June 26, 2000 until 30 November 2000.

Dated: June 26, 2000.
A.L. Thompson, Jr.,
Captain, U.S. Coast Guard, Captain of the Port, Tampa, Florida.

[FR Doc. 00-20783 Filed 8-15-00; 8:45 am]

BILLING CODE 4910-15-M